DEPARTMENT OF TRANSPORTATION

Federal Aviation Administration

Notice of Intent To Rule on Request To Release Airport Property at the Dona Ana County International Jetport, Santa Teresa, New Mexico

AGENCY: Federal Aviation Administration (FAA), DOT.

ACTION: Notice of request to release airport property.

SUMMARY: The FAA proposes to rule and invite public comment on the release of land at the Dona Ana County International Jetport under the provisions of Section 23 of the Airport and Airway development Act of 1970.

DATES: Comments must be received April 19, 2023.

ADDRESSES: Comments on this application may be mailed or delivered to the FAA at the following address: Mr. Justin Barker, Manager, Federal Aviation Administration, Southwest Region, Airports Division, Louisiana/New Mexico Airports Development Office, ASW-640, Fort Worth, Texas, 76177.

In addition, one copy of any comments submitted to the FAA must be mailed or delivered to Mr. William Provance, Airport Director, at the following address: 8014 Airport Road, Santa Teresa, New Mexico 88008.

FOR FURTHER INFORMATION CONTACT: Ms. Heidi Higginbotham, Program Manager, Federal Aviation Administration, Louisiana/New Mexico Airports Development Office, ASW-640, 10101 Hillwood Parkway, Fort Worth, Texas 76177, Telephone: (817) 222-5144, Email: Heidi.M.Higginbotham@FAA.gov, Fax: (817) 222-5989

SUPPLEMENTARY INFORMATION: The Dona Ana County International Jetport under the provisions of Section 23 of the Airport and Airway development Act of 1970.

The following is a brief overview of the request:

The County of Dona Ana requests the release of 5.68 acres of land requested which consists of two parcels of vacant land with a combined land area. Parcel #1 contains 4.645-acres and is triangular with frontage along Airport Road. Parcel #2 contains 1.035-acres and is triangular, north of Airport Road in Santa Teresa, New Mexico. The land was acquired by Deed conveyed to the city from the United States of America Bureau of Land Management Section 23 of the Airport and Airway development Act of 1970. The land proposed for release will be swapped for 12.027 acres by Paseo Del Norte, LLC. The property to be released will ultimately be sold to Franklin Mountain for the development of a logistics park. The benefit to civil aviation has long-term impacts from the logistics park with plans to construct an air cargo handling facility.

Any person may inspect the request in person at the FAA office listed above under FOR FURTHER INFORMATION CONTACT.

In addition, any person may, upon request, inspect the application, notice and other documents relevant to the application in person at the Dona Ana County Legal/Risk Department, telephone number (575) 647-7200.

Issued in Fort Worth, Texas, on March 6, 2023.
Ignacio Flores,
Director, Office of Airports Southwest Region.

[FR Doc. 2023-05548 Filed 3-17-23; 8:45 am]

BILLING CODE P